DEPARTMENT OF LABOR

Employment and Training Administration

[TA-W-58,928]

ITT Jabsco Worldwide-Flojet, Currently Known as ITT Marine & Leisure, A Subsidiary of ITT Industries, Including Leased Production Workers From Volt Staffing Agency, Foothill Ranch, California, Now Located in Santa Ana, California; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 23, 2006, applicable to workers of ITT Jabsco Worldwide-Flojet, a subsidiary of ITT Industries, including leased production workers from Volt Staffing Agency, Foothill Ranch, California. The notice was published in the Federal Register on April 12, 2006 (71 FR 18772).

At the request of the State agency, the Department reviewed the certification for workers of the subject firm. The workers are engaged in the production of small motors and dispensing pumps.

Information provided by the company shows that ITT Jabsco Worldwide-Flojet became known as ITT Marine & Leisure following a merger in mid 2006. The subject firm previously located in Foothill Ranch, California closed and relocated to Santa Ana, California where layoffs are continuing to occur.

Accordingly, the Department is amending this certification to properly reflect this matter.

The intent of the Department's certification is to include all workers of ITT Jabsco Worldwide-Flojet, currently known as ITT Marine & Leisure, a subsidiary of ITT Industries, who were adversely affected by a shift in production to Mexico.

The amended notice applicable to TA-W-58,928 is hereby issued as follows:

All workers of ITT Jabsco Worldwide-Flojet, currently known as ITT Marine and Leisure, a subsidiary of ITT Industries, including leased on-site production workers from Volt Staffing Agency, Foothill Ranch, California, now located in Santa Ana, California, who became totally or partially separated from employment on or after February 27, 2005, through March 23, 2008, are eligible to apply for adjustment assistance under Section 223 of the Trade Act of 1974 and are also eligible to apply for alternative trade adjustment assistance under Section 246 of the Trade Act of 1974.

Signed at Washington, DC, this 22nd day of September 2006.
Richard Church,
Certifying Officer, Division of Trade Adjustment Assistance.

[FR Doc. E6-16099 Filed 9-29-06; 8:45 am]

BILLING CODE 4510-30-P